NUCLEAR REGULATORY COMMISSION

Notice of Delay in Issuance of the Draft and Final Environmental Impact Statements for the Mixed Oxide Fuel Fabrication Facility

AGENCY: United States Nuclear Regulatory Commission.

ACTION: Notice of change in schedule.

SUMMARY: On March 7, 2001, pursuant to the National Environmental Policy Act (NEPA), the U.S. Nuclear Regulatory Commission (NRC) published a Notice of Intent (NOI) to Prepare an Environmental Impact Statement (EIS) for a proposed Mixed Oxide (MOX) Fuel Fabrication Facility (66 FR 13794). NRC staff subsequently held scoping meetings, and issued a Scoping Summary Report in connection with preparing the EIS. NRC staff planned to issue a Draft Environmental Impact Statement (DEIS) on February 27, 2002. NRC staff decided this schedule needed to be changed when, in January 2002, the U.S. Department of Energy (DOE) announced its decision to alter its planned hybrid approach for surplus weapons plutonium disposition [65 FR 1608]. The Plutonium Immobilization Plant (PIP) that DOE had planned to build and operate as part of its hybrid approach will not be built. Instead, DOE decided that 34 metric tons of surplus weapons plutonium would be converted into MOX fuel at the proposed MOX facility. During the scoping process, immobilization of plutonium was identified as one of the No Action Alternatives to be evaluated in the EIS for the proposed MOX facility. DOE's decision not to build the PIP and convert all of the plutonium into MOX fuel requires design changes to the proposed MOX facility. These design changes were generally described in a February 13, 2002, public meeting between the NRC staff and the applicant, Duke COGEMA Stone & Webster (DCS). The NRC staff found that due to these changes, DCS would be required to submit a supplemental Environmental Report (ER), and that the DEIS should not be issued until after the supplemental ER is received and reviewed. The supplemental ER is expected to be submitted in July 2002, and the NRC staff anticipates issuing the DEIS in February 2003.

FOR FURTHER INFORMATION CONTACT: For general or technical information associated with the proposed MOX facility, please contact: Tim Johnson at (301) 415-7299, or Drew Persinko at (301) 415-6522. For general information on the NRC NEPA process, please contact: Tim Harris at (301) 415-6613.

Availability of Documents for Review: Information and documents associated with the MOX project are available for public review through our electronic reading room: http://www.nrc.gov/reading-rm.html. Documents may also be obtained from NRC's Public Document Room at U.S. Nuclear Regulatory Commission, Public Document Room, Washington, DC 20555.

SUPPLEMENTARY INFORMATION: Background: In January 2000, DOE issued its Record of Decision (ROD) for the Surplus Plutonium Disposition Final EIS (65 FR 1608). The fundamental purpose of the DOE program is to ensure that plutonium produced for nuclear weapons and declared excess to national security needs is converted to forms that are inaccessible and unattractive for nuclear weapons. In its ROD, DOE announced that it had decided to use a hybrid approach for the disposition of surplus weapons plutonium, and that the facilities would be located at DOE's Savannah River Site (SRS) in South Carolina. The first approach described in the ROD was immobilization of approximately 17 metric tons of surplus plutonium. Immobilization would involve placing the weapons plutonium into canisters at the PIP, and filling the canisters with vitrified waste from the SRS high-level waste (HLW) tanks. The second approach would have converted up to 33 metric tons of surplus plutonium into MOX fuel at the proposed MOX facility.

DOE selected DCS to design, build, and operate the proposed MOX fuel fabrication facility. DCS submitted its ER for the MOX facility to NRC on December 19, 2000, and submitted its construction authorization request (CAR) to NRC on February 28, 2001. The NRC staff has been reviewing the CAR and ER to determine whether DCS should be authorized to begin constructing the proposed MOX facility.

NRC staff held scoping meetings to gather comments from members of the public in April and May 2001, and issued a Scoping Summary Report of those comments in August 2001. However, because of the changes in the project (summarized above and discussed below), NRC has decided to delay issuance of the DEIS.

Cancellation of Plutonium Immobilization Plant: In DOE's 2003 Fiscal Year budget, it stated that the immobilization approach will not be pursued. The Plutonium Immobilization Plant (PIP) was one of the three facilities planned as part of DOE's hybrid approach for surplus weapons plutonium disposition (65 FR 1608). Under DOE's new plan, approximately 6 metric tons of plutonium previously destined for immobilization would be processed in the re-designed proposed MOX facility. Plutonium that is too costly to convert to MOX fuel would be disposed of as waste by DOE.

During EIS scoping, immobilization of all surplus plutonium was identified as one of the No Action Alternatives for the MOX facility EIS. DOE's cancellation of the PIP requires that discussions of this No Action Alternative in the DEIS be reconsidered.

The NRC staff believes that it would be difficult for the public to comment effectively on the DEIS if it were issued in its current form, since the immobilization No Action Alternative arose from public comments received during the scoping process. The NRC is reviewing how it will present the second No Action Alternative in the DEIS.

Additional Changes in the Proposed DOE Action: As a result of the PIP cancellation, 6 metric tons of plutonium, originally slated for immobilization (designated as alternate feedstock), and 2 metric tons from additional sources, would now be processed in a re-designed proposed MOX facility. The alternate feedstock includes impurities that would require more processing than the plutonium already scheduled for conversion into MOX fuel. In addition, the amount of high-alpha waste produced from the MOX facility would be greater, due to processing of the alternate feedstock. The current MOX facility design will be updated to include new or additional equipment and processing steps to accommodate the additional plutonium.

In addition to the changes in the proposed MOX fuel fabrication facility prompted by the PIP cancellation, DOE plans to construct and operate a new waste processing building at the SRS to solidify the MOX waste streams (high-alpha and uranium) that were originally planned to go to DOE's HLW tanks at the SRS.

Resulting Changes in the Proposed NRC MOX DEIS: The DEIS will be revised to include and evaluate the proposed changes to the MOX fuel fabrication facility, including new and/or altered equipment plans, additional processing steps and the consequent hazards, and the additional waste generated. The DEIS will also evaluate the changes to the waste processing plans, including construction and operation of a new DOE facility. Finally, the DEIS will be revised to evaluate the impacts of transporting and using the additional MOX fuel. The impacts related to reactor use of MOX fuel, as described in the ER, consider only fuel converted from 25.5 metric ton of surplus plutonium, and not the 34 metric ton now scheduled to be converted into MOX fuel at the proposed MOX facility.

Your Comments are Requested: The NRC is hereby soliciting comments on our plans for the DEIS to accommodate the changes in the DOE and DCS programs. We would specifically like you to comment on:

(1) How the immobilization of surplus plutonium as a No Action Alternative should be discussed in the DEIS, since DOE has canceled plans to build the Plutonium Immobilization Plant.

(2) Whether there are additional reasonable alternatives not identified during scoping that should be considered in the DEIS, in light of the changes described above. As discussed in the Scoping Summary Report, NRC is considering the environmental impacts of the proposed action (construction and operation of the proposed MOX fuel fabrication facility), continued storage of surplus plutonium at existing DOE sites, and immobilization of surplus plutonium. If the immobilization alternative is not considered, then the DEIS would only evaluate the proposed action and one No Action Alternative.

Please submit your comments on or before August 30, 2002. Written comments should be mailed to Mike Lesar, Chief, Rules and Directives Branch, Division of Administrative Services, Office of Administration, Mail Stop T-6D59, U.S. Nuclear Regulatory Commission, Washington, DC 20555. Comments will also be accepted by e-mail. Interested parties may e-mail their comments to teh@nrc.gov. Comments will also be accepted by fax at (301) 415-5398, Attention: Tim Harris.

Tentative Schedule: Based on available information, and assuming DCS submits a supplemental ER in July 2002, NRC has revised the EIS schedule as follows:

Conduct Acceptance Review of DCS Supplemental Environmental Report—August 2002

Conduct Informational Meetings—September 2002

Issue Draft Environmental Impact Statement—February 2003

Public Comment on DEIS—February-April 2003

Issue Final Environmental Impact Statement—August 2003

Signed in Rockville, MD, this 17th day of April, 2002.
For the Nuclear Regulatory Commission.
Thomas H. Essig,
Chief, Environmental and Performance Assessment Branch, Division of Waste Management, Office of Nuclear Material Safety and Safeguards.

[FR Doc. 02-9991 Filed 4-23-02; 8:45 am]

BILLING CODE 7590-01-P